NUCLEAR REGULATORY COMMISSION

[Docket Nos. 50-321, 50-366, 50-348, 50-364, 50-424, and 50-425]

Southern Nuclear Operating Company, Inc., Edwin I. Hatch Nuclear Plant, Units 1 and 2, Joseph M. Farley Nuclear Plant, Units 1 and 2, Vogtle Electric Generating Plant, Units 1 and 2; Environmental Assessment and Finding of No Significant Impact

The U.S. Nuclear Regulatory Commission (NRC) is considering issuance of an exemption from Title 10 of the Code of Federal Regulations (10 CFR) part 50, appendix E, and from 10 CFR 50.47(b)(3) for Facility Operating License Nos. DPR-57, NPF-5, NPF-2, NPF-8, NPF-68, and NPF-81, issued to Southern Nuclear Operating Company, Inc. (the licensee), for operation of the Edwin I. Hatch Nuclear Plant, Units 1 and 2 (Hatch), Joseph M. Farley Nuclear Plant, Units 1 and 2 (Farley), and Vogtle Electric Generating Plant, Units 1 and 2 (Vogtle), respectively. Therefore, as required by 10 CFR 51.21, the NRC is issuing this environmental assessment and finding of no significant impact.

Environmental Assessment

Identification of the Proposed Action

The proposed action would provide an exemption from the requirements of 10 CFR part 50, appendix E, and 10 CFR 50.47(b)(3) to permit the licensee to relocate the near-site emergency operations facilities (EOFs) for each plant identified above to a common EOF located at the licensee's corporate headquarters in Birmingham, Alabama.

The need for the proposed exemption was identified by the NRC staff during its review of the licensee's request for approval to relocate the EOFs dated October 16, 2003.

The Need for the Proposed Action

The proposed action provides relief from the requirements that (1) adequate provisions shall be made and described for emergency facilities and equipment, including a licensee near-site EOF from which effective direction can be given and effective control can be exercised during an emergency, and (2) that arrangements to accommodate State and local staff at the licensee's near-site EOF have been made. The licensee proposed to locate the EOFs in Birmingham, AL, which is 1½ to 2½ times farther than any previous NRC-approved distance. At this distance, the NRC staff believes that it cannot reasonably consider the proposed location to be “near-site.” Therefore, the NRC staff determined that an exemption to the regulations that require an EOF to be near-site is required prior to consolidation of the near-site EOFs in Birmingham, AL. In order to ensure that NRC actions are timely, effective, and efficient, the staff is issuing an exemption under 10 CFR 50.12.

Environmental Impacts of the Proposed Action

The NRC has completed its safety evaluation of the proposed action and concludes, as set forth below, that there are no significant environmental impacts associated with relocating the Hatch, Farley, and Vogtle near-site EOFs to a common EOF located in Birmingham, AL.

The proposed action will not significantly increase the probability or consequences of accidents. No changes are being made in the types of effluents that may be released off site. There is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the following documents: “Final Environmental Statement related to the operation of the Edwin I. Hatch Nuclear Plant, Unit 1,” dated October 1972; “Final Environmental Statement related to the operation of the Edwin I. Hatch Nuclear Plant, Unit 2,” dated March 1978; “Final Environmental Statement related to the operation of the Joseph M. Farley Nuclear Plant, Units 1 and 2,” dated December 1974; and “Final Environmental Statement related to the operation of the Vogtle Electric Generating Plant, Units 1 and 2,” NUREG-1087, dated December 1985.

Agencies and Persons Consulted

In accordance with its stated policy, on November 17, 2004, the staff consulted with the Alabama State official, Kirk Whatley of the Office of Radiation Control, Alabama Department of Public Health, regarding the environmental impact of the proposed action for Farley. In addition, on November 18, 2004, the staff consulted with the Georgia State official, James Hardeman, of the Department of Natural Resources, regarding the environmental impact of the proposed action for Vogtle and Hatch. Neither State official had comments.

Finding of No Significant Impact

On the basis of the environmental assessment, the NRC concludes that the proposed action will not have a significant effect on the quality of the human environment. Accordingly, the NRC has determined not to prepare an environmental impact statement for the proposed action.

For further details with respect to the proposed action, see the licensee's letter dated October 16, 2003, as supplemented by letters dated April 15 and August 16, 2004. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. (Note: Public access to ADAMS has been temporarily suspended so that security reviews of publicly available documents may be performed and potentially sensitive information removed. Please check the NRC Web site for updates on the resumption of ADAMS Access.) Persons who do not have access to ADAMS or who encounter problems in accessing the documents located in ADAMS should contact the NRC PDR Reference staff by telephone at 1-800-397-4209 or 301-415-4737, or by e-mail to pdr@nrc.gov.

Dated at Rockville, Maryland, this 25th day of February.
For the Nuclear Regulatory Commission.
Christopher Gratton,
Senior Project Manager, Section 1, Project Directorate II, Division of Licensing Project Management, Office of Nuclear Reactor Regulation.

[FR Doc. 05-4068 Filed 3-2-05; 8:45 am]

BILLING CODE 7590-01-P